NUCLEAR REGULATORY COMMISSION

[Docket Nos. STN 50-528, STN 50-529, and STN 50-530; NRC-2009-0316]

Arizona Public Service Company, et al.; Palo Verde Nuclear Generating Station, Units 1, 2, and 3; Environmental Assessment and Finding of No Significant Impact

The U.S. Nuclear Regulatory Commission (NRC) is considering issuance of an exemption from Title 10 of the Code of Federal Regulations (10 CFR) Part 55, Section 55.47, for Facility Operating License Nos. NPF-41, NPF-51, and NPF-74, issued to the Arizona Public Service Company (APS, or the licensee), for operation of the Palo Verde Nuclear Generating Station (PVNGS, the facility) Units 1, 2, and 3, respectively, located in Maricopa County, Arizona. Therefore, as required by 10 CFR 51.21, the NRC is issuing this environmental assessment and finding of no significant impact.

Environmental Assessment

Identification of the Proposed Action

The proposed action would allow Mr. Mark A. Sharp, who was licensed as a senior reactor operator (SRO) at the PVNGS from December 1996 to December 2006, to be re-licensed as an SRO at the PVNGS without having to take and pass the NRC-required written examination or operating test specified in 10 CFR 55.43 or 10 CFR 55.45, respectively. The proposed action would exempt the SRO license candidate from meeting one specific criterion of 10 CFR 55.47, which allows NRC to grant waivers of the testing requirements.

The proposed action is in accordance with the licensee's application for exemption dated February 6, 2009 (Agencywide Documents Access and Management System (ADAMS) Accession No. ML091550607).

The Need for the Proposed Action

The proposed exemption would allow Mr. Mark A. Sharp to re-obtain an SRO license at PVNGS without the need to take the NRC-administered written examination and operating tests required by 10 CFR 55.43 and 10 CFR 55.45, respectively. The NRC is authorized to grant a waiver from these requirements by 10 CFR 55.47; however, the operator license candidate in this case did not meet one specific waiver criterion, 10 CFR 55.47(a)(1), which requires that the candidate have extensive actual operating experience at PVNGS (or a comparable facility) within 2 years before the date of application. Therefore, an exemption to this waiver criterion was requested by APS to allow Mr. Sharp to receive his SRO license and resume licensed operator duties at PVNGS more quickly than he could if he had to take and pass the NRC-administered examinations, which are currently scheduled for November 2009. APS has initiated an effort to increase the number of licensed operators at PVNGS, in response to an NRC violation involving the excessive use of operator overtime, and the granting of this exemption would further that effort.

Environmental Impacts of the Proposed Action

The NRC has completed its environmental evaluation of the proposed action and concludes that re-licensing Mr. Sharp as a senior reactor operator at PVNGS without his taking and passing an NRC licensing examination will not result in an adverse impact on the environment. The details of the staff's safety evaluation will be provided in the exemption that will be issued as part of the letter to the licensee approving the exemption to the regulation.

The proposed action will not significantly increase the probability or consequences of accidents. No changes are being made in the types of effluents that may be released offsite. There is no significant increase in the amount of any effluent released offsite. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action

As an alternative to the proposed action, the staff considered denial of the proposed exemption (i.e., the “no-action” alternative). Denial of the application for exemption would result in no change in current environmental impacts. Thus the environmental impacts of the proposed action and the alternative action are similar.

Alternative Use of Resources

The action does not involve the use of any different resources than those previously considered in the Final Environmental Statement for the Palo Verde Nuclear Generating Station, Units 1, 2, and 3, NUREG-0841, dated February 1982.

Agencies and Persons Consulted

In accordance with its stated policy, on June 3, 2009, the staff consulted with the Arizona State official, Mr. Aubrey Godwin of the Arizona Radiation Regulatory Agency, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated February 6, 2009. Documents may be examined, and/or copied for a fee, at the NRC's Public Document Room (PDR), located at One White Flint North, Public File Area O1 F21, 11555 Rockville Pike (first floor), Rockville, Maryland. Publicly available records will be accessible electronically from the ADAMS Public Electronic Reading Room on the Internet at the NRC Web site, http://www.nrc.gov/reading-rm/adams.html. Persons who do not have access to ADAMS or who encounter problems in accessing the documents located in ADAMS should contact the NRC PDR Reference staff by telephone at 1-800-397-4209 or 301-415-4737, or send an e-mail to pdr.resource@nrc.gov.

Dated at Rockville, Maryland, this 10th day of July 2009.
For the Nuclear Regulatory Commission.
James R. Hall,
Senior Project Manager, Plant Licensing Branch IV, Division of Operating Reactor Licensing, Office of Nuclear Reactor Regulation.

[FR Doc. E9-17050 Filed 7-16-09; 8:45 am]

BILLING CODE 7590-01-P